DEPARTMENT OF TRANSPORTATION

Federal Aviation Administration

14 CFR Part 97

[Docket No. 31134; Amdt. No. 3747]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 20, 2017. The compliance date for each SIAP, associated Takeoff Minimums, and ODP is specified in the amendatory provisions.

The incorporation by reference of certain publications listed in the regulations is approved by the Director of the Federal Register as of June 20, 2017.

ADDRESSES: Availability of matters incorporated by reference the amendment is as follows:

For Examination

1. U.S. Department of Transportation, Docket Ops—M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on May 5, 2017.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for Part 97 continues to read as follows:

Authority: 49 U.S.C. 106(f), 106(g), 40103, 40106, 40113, 40114, 40120, 44502, 44514, 44701, 44719, 44721-44722.

2. Part 97 is amended to read as follows:

Effective 22 June 2017

Manokotak, AK, Manokotak, RNAV (GPS) RWY 3, Orig-A

Manokotak, AK, Manokotak, RNAV (GPS) RWY 21, Orig-A

Scottsboro, AL, Scottsboro Muni-Word Field, RNAV (GPS) RWY 4, Orig-A

Scottsboro, AL, Scottsboro Muni-Word Field, RNAV (GPS) RWY 22, Orig-A

Stuttgart, AR, Stuttgart Municipal Carl Humphrey Field, ILS OR LOC RWY 36, Orig-C

Stuttgart, AR, Stuttgart Municipal Carl Humphrey Field, RNAV (GPS) RWY 9, Orig-C

Stuttgart, AR, Stuttgart Municipal Carl Humphrey Field, RNAV (GPS) RWY 18, Amdt 1B

Stuttgart, AR, Stuttgart Municipal Carl Humphrey Field, RNAV (GPS) RWY 27, Amdt 1C

Stuttgart, AR, Stuttgart Municipal Carl Humphrey Field, RNAV (GPS) RWY 36, Amdt 1C

Stuttgart, AR, Stuttgart Municipal Carl Humphrey Field, Takeoff Minimums and Obstacle DP, Orig-A

Concord, CA, Buchanan Field, Takeoff Minimums and Obstacle DP, Amdt 3

Grass Valley, CA, Nevada County Air Park, GPS RWY 7, Orig-A, CANCELED

Oroville, CA, Oroville Muni, RNAV (GPS) RWY 2, Amdt 1

Oroville, CA, Oroville Muni, Takeoff Minimums and Obstacle DP, Amdt 4

Oroville, CA, Oroville Muni, VOR-A, Amdt 8

Rio Vista, CA, Rio Vista Muni, RNAV (GPS) RWY 25, Amdt 3D

San Diego, CA, San Diego Intl, RNAV (GPS) RWY 9, Amdt 1A

Weed, CA, Weed, FOBRO ONE, Graphic DP

Weed, CA, Weed, RNAV (GPS) RWY 14, Orig

Weed, CA, Weed, Takeoff Minimums and Obstacle DP, Orig

Bridgeport, CT, Igor I Sikorsky Memorial, ILS OR LOC RWY 6, Amdt 10

Bridgeport, CT, Igor I Sikorsky Memorial, RNAV (GPS) RWY 6, Amdt 1

Bridgeport, CT, Igor I Sikorsky Memorial, RNAV (GPS) RWY 24, Amdt 1

Bridgeport, CT, Igor I Sikorsky Memorial, RNAV (GPS) RWY 29, Amdt 1

Bridgeport, CT, Igor I Sikorsky Memorial, VOR RWY 24, Amdt 17

Fort Pierce, FL, Treasure Coast Intl, ILS OR LOC RWY 10R, Amdt 4D

Milledgeville, GA, Baldwin County, RNAV (GPS) RWY 10, Amdt 1A

Milledgeville, GA, Baldwin County, RNAV (GPS) RWY 28, Amdt 1A

Chanute, KS, Chanute Martin Johnson, RNAV (GPS) RWY 36, Orig-A

Independence, KS, Independence Muni, ILS OR LOC RWY 35, Amdt 1D

Shreveport, LA, Shreveport Downtown, RNAV (GPS) RWY 32, Orig

Troy, MI, Oakland/Troy, RNAV (GPS) RWY 9, Amdt 3

Kill Devil Hills, NC, First Flight, RNAV (GPS) RWY 3, Orig

Kill Devil Hills, NC, First Flight, RNAV (GPS) RWY 21, Orig

Kill Devil Hills, NC, First Flight, Takeoff Minimums and Obstacle DP, Orig

Linton, ND, Linton Muni, RNAV (GPS) RWY 9, Orig-B

Linton, ND, Linton Muni, RNAV (GPS) RWY 27, Orig-B

Dunkirk, NY, Chautauqua County/Dunkirk, RNAV (GPS) RWY 6, Orig-A, CANCELED

Dunkirk, NY, Chautauqua County/Dunkirk, RNAV (GPS) RWY 15, Amdt 1

Dunkirk, NY, Chautauqua County/Dunkirk, RNAV (GPS) RWY 24, Orig-A, CANCELED

Dunkirk, NY, Chautauqua County/Dunkirk, RNAV (GPS) RWY 33, Orig-B

Dunkirk, NY, Chautauqua County/Dunkirk, RNAV (GPS)-A, Orig

Dunkirk, NY, Chautauqua County/Dunkirk, RNAV (GPS)-B, Orig

Dunkirk, NY, Chautauqua County/Dunkirk, VOR RWY 24, Amdt 8A, CANCELED

Poughkeepsie, NY, Hudson Valley Rgnl, Takeoff Minimums and Obstacle DP, Amdt 2A

Watertown, NY, Watertown Intl, RNAV (GPS) RWY 28, Amdt 1

Watertown, NY, Watertown Intl, Takeoff Minimums and Obstacle DP, Amdt 2

Batavia, OH, Clermont County, RNAV (GPS) RWY 4, Amdt 1C

Batavia, OH, Clermont County, RNAV (GPS) RWY 22, Amdt 1D

Batavia, OH, Clermont County, VOR-B, Amdt 7C

Enid, OK, Enid Woodring Rgnl, ILS OR LOC RWY 35, Amdt 7

Enid, OK, Enid Woodring Rgnl, RNAV (GPS) RWY 17, Amdt 1

Enid, OK, Enid Woodring Rgnl, RNAV (GPS) RWY 35, Amdt 2

Jackson, TN, Mc Kellar-Sipes Rgnl, ILS OR LOC RWY 2, Amdt 9

Jackson, TN, Mc Kellar-Sipes Rgnl, VOR RWY 2, Amdt 13, CANCELED

Jamestown, TN, Jamestown Muni, RNAV (GPS)-B, Orig

Jamestown, TN, Jamestown Muni, RNAV (GPS)-C, Orig

Midland, TX, Midland Intl Air and Space Port, ILS OR LOC RWY 10, Amdt 16C

Midland, TX, Midland Intl Air and Space Port, RNAV (GPS) RWY 4, Amdt 1C

Midland, TX, Midland Intl Air and Space Port, RNAV (GPS) RWY 10, Amdt 2B

Midland, TX, Midland Intl Air and Space Port, RNAV (GPS) RWY 16R, Amdt 1B

Midland, TX, Midland Intl Air and Space Port, RNAV (GPS) RWY 22, Amdt 1B

Midland, TX, Midland Intl Air and Space Port, RNAV (GPS) RWY 28, Amdt 2B

Midland, TX, Midland Intl Air and Space Port, RNAV (GPS) RWY 34L, Amdt 1B

Midland, TX, Midland Intl Air and Space Port, Takeoff Minimums and Obstacle DP, Amdt 1A

Midland, TX, Midland Intl Air and Space Port, VOR OR TACAN RWY 16R, Amdt 23B

Midland, TX, Midland Intl Air and Space Port, VOR OR TACAN RWY 34L, Amdt 10B

Robstown, TX, Nueces County, RNAV (GPS) RWY 13, Amdt 1

Robstown, TX, Nueces County, RNAV (GPS) RWY 31, Orig

Newport News, VA, Newport News/Williamsburg Intl, ILS OR LOC RWY 7, Amdt 34

Newport News, VA, Newport News/Williamsburg Intl, ILS OR LOC RWY 25, Amdt 2

Newport News, VA, Newport News/Williamsburg Intl, LOC RWY 20, Amdt 1C

Newport News, VA, Newport News/Williamsburg Intl, RNAV (GPS) RWY 2, Amdt 1B

Newport News, VA, Newport News/Williamsburg Intl, RNAV (GPS) RWY 7, Amdt 4

Newport News, VA, Newport News/Williamsburg Intl, RNAV (GPS) RWY 20, Amdt 2B

Newport News, VA, Newport News/Williamsburg Intl, RNAV (GPS) RWY 25, Amdt 3

[FR Doc. 2017-12464 Filed 6-19-17; 8:45 am]

BILLING CODE 4910-13-P